DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-1243.

Project: Survey of State Underage Drinking Prevention Policies and Practices—(OMB No. 0930-0316)—Revision

The Sober Truth on Preventing Underage Drinking Act (the “STOP Act”) (Pub. L. 109-422, reauthorized in 2016 by Pub. L. 114-255) states that the “Secretary [of Health and Human Services] shall . . . annually issue a report on each state's performance in enacting, enforcing, and creating laws, regulations, and programs to prevent or reduce underage drinking.” The Secretary has delegated responsibility for this report to SAMHSA. Therefore, SAMHSA has developed a Survey of State Underage Drinking Prevention Policies and Practices (the “State Survey”) to provide input for the state-by-state report on prevention and enforcement activities related to underage drinking component of the Annual Report to Congress on the Prevention and Reduction of Underage Drinking (“Report to Congress”).

The STOP Act also requires the Secretary to develop “a set of measures to be used in preparing the report on best practices” and to consider categories including but not limited to the following:

Category #1: Sixteen specific underage drinking laws/regulations enacted at the state level (e.g., laws prohibiting sales to minors; laws related to minors in possession of alcohol). Note that ten additional policies have been added to the Report to Congress pursuant to Congressional appropriations language or the Secretary's authority granted by the STOP Act;

Category #2: Enforcement and educational programs to promote compliance with these laws/regulations;

Category #3: Programs targeted to youths, parents, and caregivers to deter underage drinking and the number of individuals served by these programs;

Category #4: The amount that each state invests, per youth capita, on the prevention of underage drinking broken into five categories: (a) Compliance check programs in retail outlets; (b) Checkpoints and saturation patrols that include the goal of reducing and deterring underage drinking; (c) Community-based, school-based, and higher-education-based programs to prevent underage drinking; (d) Underage drinking prevention programs that target youth within the juvenile justice and child welfare systems; and (e) Any other state efforts or programs that target underage drinking.

Congress' purpose in mandating the collection of data on state policies and programs through the State Survey is to provide policymakers and the public with otherwise unavailable but much needed information regarding state underage drinking prevention policies and programs. SAMHSA and other Federal agencies that have underage drinking prevention as part of their mandate use the results of the State Survey to inform federal programmatic priorities, as do other stakeholders, including community organizations. The information gathered by the State Survey has established a resource for state agencies and the general public for assessing policies and programs in their own state and for becoming familiar with the programs, policies, and funding priorities of other states.

Because of the broad scope of data required by the STOP Act, SAMHSA relies on existing data sources where possible to minimize the survey burden on the states. SAMHSA uses data on state underage drinking policies from the National Institute of Alcohol Abuse and Alcoholism's Alcohol Policy Information System (APIS), an authoritative compendium of state alcohol-related laws. The APIS data is augmented by SAMHSA with original legal research on state laws and policies addressing underage drinking to include all of the STOP Act's requested laws and regulations (Category #1 of the four categories included in the STOP Act, as described above, page 2).

The STOP Act mandates that the State Survey assess “best practices” and emphasize the importance of building collaborations with federally recognized tribal governments (“tribal governments”). It also emphasizes the importance at the federal level of promoting interagency collaboration and to that end established the Interagency Coordinating Committee on the Prevention of Underage Drinking (ICCPUD). SAMHSA has determined that to fulfill the Congressional intent, it is critical that the State Survey gather information from the states regarding the best practices standards that they apply to their underage drinking programs, collaborations between states and tribal governments, and the development of state-level interagency collaborations similar to ICCPUD.

SAMHSA has determined that data on Categories #2, #3, and #4 mandated in the STOP Act (as listed on page 2) (enforcement and educational programs; programs targeting youth, parents, and caregivers; and state expenditures) as well as states' best practices standards, collaborations with tribal governments, and state-level interagency collaborations are not available from secondary sources and therefore must be collected from the states themselves. The State Survey is therefore necessary to fulfill the Congressional mandate found in the STOP Act. Furthermore, the uniform collection of these data from the states over the last seven years has created a valuable longitudinal dataset, and the State Survey's renewal is vital to maintaining this resource.

The State Survey is a single document that is divided into four sections, as follows:

(1) Enforcement programs to promote compliance with underage drinking laws and regulations (as described in Category #2 above, page 2);

(2) Programs and media campaigns targeted to youth, parents, and caregivers to deter underage drinking (as described in Category #3 above, page 2);

(3) State interagency collaboration to implement prevention programs and media campaigns, state best-practice standards, and collaborations with tribal governments (as described above, page 4);

(4) The amount that each state invests on the prevention of underage drinking in the categories specified in the STOP Act (see description of Category #4, above, page 2) and descriptions of any dedicated fees, taxes, or fines used to raise these funds.

The number of questions in each section is as follows:

Section 1: 38 questions

Section 2A: 15 questions

Section 2B: 12 questions

Section 2C: 10 questions

Section 2D: 10 questions

Total: 85 questions

Note that the number of questions in Section 2A is an estimate. This section asks states to identify up to 10 programs that are specific to underage drinking prevention. For each program identified there are three follow-up questions. Based on the average number of programs per state reported in the Survey's seven year history, it is anticipated that states will report an average of five programs for a total of 15 questions.

It is anticipated that most respondents will actually respond to only a subset of this total. The Survey is designed with “skip logic,” which means that many questions will only be directed to a subset of respondents who report the existence of particular programs or activities.

This latest version of the Survey has been revised as follows:

1. Part 2, Section A: Programs

a. A question about underage drinking prevention programs has been eliminated. Previously, states were asked to define each program by whether it was aimed at the “general population” or a “specific countable population (e.g., at-risk high school students).” This question was not misinterpreted by some respondents, leading to inconsistent data. It was not uncommon for states to provide specific population numbers for a program they had previously defined as being aimed at the general population. For this reason, it is being eliminated.

b. Questions about the specific number of different populations (youth, parents, and caregivers) served by each prevention program have been reformatted as follows:

i. Definitions of each population category have been deleted from the introduction to Part 2, Section A and have been incorporated into the subsequent questions about each program, making it easier for respondents to answer these questions without referring back to the introduction.

ii. For the sake of efficiency, three separate questions about type of population served by each program have been collapsed into one question.

c. References to “media campaigns” have been added to the introduction of this section to encourage respondents to include these among the prevention programs listed in their responses. As noted in the following description to changes in Part 2, Section B, the survey is being amended to evaluate awareness of, and participation in the national media campaign mandated by the STOP Act.

2. Part 2. Section B: Collaborations and Best Practices

a. New questions about the national media campaign to reduce underage drinking aimed at adults (as mandated by the STOP Act) have been added. The questions are intended to:

i. Evaluate awareness of and participation in the national media campaign, “Talk. They Hear You.” (TTHY), including questions about the commitment of state resources and funding to this effort. The STOP Act requires evaluation of the national media campaign, which is largely conducted by other survey instruments. However, adding a question on the campaign here is an efficient way to gather state-level data for the analysis.

ii. Determine whether the states participate in other media campaigns intended to reduce underage drinking.

iii. Expand the scope of the Survey to include social marketing or counter-advertising efforts in the effort to reduce underage drinking. Currently, the Survey includes a question about whether states have programs to measure or reduce youth exposure to alcohol advertising and marketing. This question will remain, but the new questions will capture proactive efforts to counter this advertising and marketing.

No additional time burden should be placed on the respondents, as the added questions are balanced by the deletion of others, with a small net reduction in the total number of questions. All questions continue to ask only for readily available data.

To ensure that the State Survey obtains the necessary data while minimizing the burden on the states, SAMHSA has conducted a lengthy and comprehensive planning process. It sought advice from key stakeholders (as mandated by the STOP Act) including hosting multiple stakeholders meetings, conducting two field tests with state officials likely to be responsible for completing the State Survey, and investigating and testing various State Survey formats, online delivery systems, and data collection methodologies.

Based on these investigations, SAMHSA collects the required data using an online survey data collection platform (SurveyMonkey). Links to the four sections of the survey are distributed to states via email. The State Survey is sent to each state governor's office and the Office of the Mayor of the District of Columbia. Based on the experience from the last seven years of administering the State Survey, it is anticipated that the state governors will designate staff from state agencies that have access to the requested data (typically state Alcohol Beverage Control [ABC] agencies and state Substance Abuse Program agencies). SAMHSA provides both telephone and electronic technical support to state agency staff and emphasizes that the states are only expected to provide data that is readily available and are not required to provide data that has not already been collected. The burden estimate below takes into account these assumptions.

The estimated annual response burden to collect this information is as follows:

Instrument | Number of respondents | Responses/ respondent | Burden/ response (hrs) | Annual burden (hrs)
State Questionnaire | 51 | 1 | 17.7 | 902.7

Written comments and recommendations concerning the proposed information collection should be sent by July 16, 2018 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2018-12865 Filed 6-14-18; 8:45 am]

BILLING CODE 4162-20-P